DEPARTMENT OF HEALTH AND HUMAN SERVICES

Centers for Disease Control and Prevention

[30Day-22-22FI]

Agency Forms Undergoing Paperwork Reduction Act Review

In accordance with the Paperwork Reduction Act of 1995, the Centers for Disease Control and Prevention (CDC) has submitted the information collection request titled “National HIV Behavioral Surveillance System: Brief HIV Bio-behavioral Assessment (NHBS-BHBA)” to the Office of Management and Budget (OMB) for review and approval. CDC previously published a “Proposed Data Collection Submitted for Public Comment and Recommendations” notice on May 13, 2022 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National HIV Behavioral Surveillance: Brief HIV Bio-behavioral Assessment (NHBS-BHBA)—New—National Center for HIV, Viral Hepatitis, STD, and TB Prevention (NCHHSTP), Centers for Disease Control and Prevention (CDC).

Background and Brief Description

The purpose of National HIV Behavioral Surveillance: Brief HIV Bio-behavioral Assessment (NHBS-BHBA) is to monitor behaviors of populations at high risk for Human Immunodeficiency Virus (HIV) infection using mixed-methods in selected geographic areas in the United States which lack biobehavioral data related to HIV transmission and prevention.

Preventing HIV, especially among populations at high risk, is an effective strategy for reducing individual, local, and national healthcare costs. The utility of this information is to provide CDC and health department staff with data for evaluating progress towards state public health goals, such as reducing new HIV infections, increasing the use of condoms, and focusing on populations at high risk by describing and monitoring the HIV risk behaviors, HIV seroprevalence and incidence, and HIV prevention experiences of persons at highest risk for HIV infection.

The Centers for Disease Control and Prevention (CDC) requests a three-year approval for a new information collection. Data will be systematically collected using mixed methods of quantitative and qualitative interviews. Brief screening interviews will be used to determine eligibility for participation in the quantitative and qualitative interviews.

Project areas will conduct brief standardized quantitative interviews and anonymous HIV blood-based rapid testing and supplemental testing to those who participate in quantitative data collection to assess HIV seroprevalence. The data from the quantitative interviews will provide estimates of: (1) behavior related to the risk of HIV and other sexually transmitted diseases; (2) prior testing for HIV; and (3) use of HIV prevention services. HIV screening results will be made available to participants, and those with preliminary positive test results will be linked to HIV care. Qualitative data collection includes key informant interviews with community members and professionals familiar with the population and focus groups to interpret standardized quantitative findings and inform grantee-developed recommendations for state/local public health partners. The data from qualitative interviews will be used to interpret standardized quantitative findings and inform recipient-developed recommendations for state and local public health authorities. No other federal agency collects this type of information in the populations at high risk in these selected geographic areas using mixed methods of quantitative and qualitative interviews.

CDC estimates that during quantitative interviewing, 1338 individuals will complete the quantitative base eligibility screener, 1204 will complete the quantitative population eligibility screener, and 338 will be either not interested or ineligible, yielding a total of 1000 eligible respondents over a 12-month period. For qualitative data collection approximately 96 individuals will complete the eligibility screener, 16 of the respondents will be either not interested in completing a qualitative interview, or will be ineligible, yielding a total of 80 eligible respondents over a 12-month period.

The total estimated annualized burden requested is 497 hours. Participation of is voluntary, and there are no costs to respondents other than their time.

Estimated Annualized Burden Hours
Type of respondents | Form name | Number of respondents | Number of responses per respondent | Average burden per response (in hours)
Persons Screened | Quantitative Base Eligibility Screener | 1338 | 1 | 1/60
Persons Screened | Quantitative Population Eligibility Screener | 1204 | 1 | 5/60
Eligible Participants | Quantitative Core Survey | 1000 | 1 | 10/60
Eligible Participants | Quantitative Population-specific Questions | 1000 | 1 | 5/60
Persons Screened | Qualitative Eligibility Screener | 96 | 1 | 1/60
Eligible Participant | Qualitative interviews | 80 | 1 | 90/60

Jeffrey M. Zirger,
Lead, Information Collection Review Office, Office of Scientific Integrity, Office of Science, Centers for Disease Control and Prevention.

[FR Doc. 2022-21215 Filed 9-29-22; 8:45 am]

BILLING CODE 4163-18-P